DEPARTMENT OF ENERGY

Federal Energy Regulatory Commission

Combined Notice of Filings #1

Take notice that the Commission received the following exempt wholesale generator filings:

Docket Numbers: EG24-198-000.

Applicants: Liberty 1 Solar, LLC.

Description: Liberty 1 Solar, LLC submits notice of self-certification of exempt wholesale generator status.

Filed Date: 6/3/24.

Accession Number: 20240603-5116.

Comment Date: 5 p.m. ET 6/24/24.

Take notice that the Commission received the following electric rate filings:

Docket Numbers: ER24-2171-000.

Applicants: Tri-State Generation and Transmission Association, Inc.

Description: § 205(d) Rate Filing: Formula Rate Tariff to be effective 7/1/2024.

Filed Date: 5/31/24.

Accession Number: 20240531-5418.

Comment Date: 5 p.m. ET 6/21/24.

Docket Numbers: ER24-2172-000.

Applicants: PJM Interconnection, L.L.C.

Description: § 205(d) Rate Filing: Amendment to ISA, SA No. 1442; Queue No. NQ-123 (amend) to be effective 8/3/2024.

Filed Date: 6/3/24.

Accession Number: 20240603-5012.

Comment Date: 5 p.m. ET 6/24/24.

Docket Numbers: ER24-2174-000.

Applicants: Nebraska Public Power District, Southwest Power Pool, Inc.

Description: § 205(d) Rate Filing: Nebraska Public Power District submits tariff filing per 35.13(a)(2)(iii: Nebraska Public Power District Revisions to Formula Rate to be effective 1/1/2025.

Filed Date: 6/3/24.

Accession Number: 20240603-5136.

Comment Date: 5 p.m. ET 6/24/24.

Docket Numbers: ER24-2175-000.

Applicants: Alabama Power Company, Georgia Power Company, Mississippi Power Company.

Description: § 205(d) Rate Filing: Alabama Power Company submits tariff filing per 35.13(a)(2)(iii: Goat Rock Solar LGIA Filing to be effective 5/22/2024.

Filed Date: 6/3/24.

Accession Number: 20240603-5137.

Comment Date: 5 p.m. ET 6/24/24.

Docket Numbers: ER24-2176-000.

Applicants: Elwood Energy LLC.

Description: Request for Limited Waiver of Elwood Energy LLC.

Filed Date: 5/31/24.

Accession Number: 20240531-5453.

Comment Date: 5 p.m. ET 6/21/24.

Docket Numbers: ER24-2177-000.

Applicants: Louisiana Energy and Power Authority.

Description: Request to Recover Costs Associated with Acting as a Local Balancing Authority of Louisiana Energy and Power Authority.

Filed Date: 6/3/24.

Accession Number: 20240603-5191.

Comment Date: 5 p.m. ET 6/24/24.

Docket Numbers: ER24-2179-000.

Applicants: Bayou Galion Solar Project, LLC.

Description: Baseline eTariff Filing: Application For Market Based Rate to be effective 8/3/2024.

Filed Date: 6/3/24.

Accession Number: 20240603-5214.

Comment Date: 5 p.m. ET 6/24/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 3, 2024.
Debbie-Anne A. Reese,
Acting Secretary.

[FR Doc. 2024-12546 Filed 6-6-24; 8:45 am]

BILLING CODE 6717-01-P